DEPARTMENT OF COMMERCE

Foreign-Trade Zones Board

[B-39-2022]

Foreign-Trade Zone (FTZ) 207—Richmond, Virginia, Notification of Proposed Production Activity, voestalpine High Performance Metals LLC (Tool Steel and Specialty Metals), South Boston, Virginia

voestalpine High Performance Metals LLC submitted a notification of proposed production activity to the FTZ Board (the Board) for its facility in South Boston, Virginia within FTZ 207. The notification conforming to the requirements of the Board's regulations (15 CFR 400.22) was received on August 25, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include centerless ground bar, cold drawn bar, and peeled and polished bar (duty rate ranges from duty-free to 3.0%).

The proposed foreign-status materials and components include wire rod and rolled black bar (duty rate ranges from duty-free to 3.0%). The request indicates that certain materials/components may be subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is October 12, 2022.

A copy of the notification will be available for public inspection in the “Online FTZ Information System” section of the Board's website.

For further information, contact Juanita Chen at juanita.chen@trade.gov.

Dated: August 29, 2022.
Andrew McGilvray,
Executive Secretary.

[FR Doc. 2022-18994 Filed 9-1-22; 8:45 am]

BILLING CODE 3510-DS-P